DEPARTMENT OF AGRICULTURE

Farm Service Agency

Information Collection; Guaranteed Loan Making and Servicing

AGENCY: Farm Service Agency, USDA.

ACTION: Notice; request for comments.

SUMMARY: In accordance with the Paperwork Reduction Act of 1995, the Farm Service Agency (FSA) is seeking comments from all interested individuals and organizations on the revision and extension of a currently approved information collection used to administer the Guaranteed Farm Loan Program.

DATES: We will consider comments that we receive by July 9, 2010.

ADDRESSES: We invite you to submit comments on this notice. In your comments, include date, volume, and page number, the OMB control number, and the title of the information collection of this issue of the Federal Register. You may submit comments by any of the following methods:

• Mail: Director, Loan Making Division, Farm Service Agency, U.S. Department of Agriculture, 1400 Independence Avenue, SW., Stop 0522, Washington, DC 20250-0522.

• E-mail: Trent.Rogers@wdc.usda.gov.

• Fax: (202) 720-1657.

You may also send comments to the Desk Officer for Agriculture, Office of Information and Regulatory Affairs, Office of Management and Budget, Washington, DC 20503. Copies of the information collection may be requested by contacting Trent Rogers at the above address.

FOR FURTHER INFORMATION CONTACT: Trent Rogers, Senior Loan Officer, Loan Making Division, Farm Service Agency, (202) 720-3889.

SUPPLEMENTARY INFORMATION:

Description of Information Collection

Title: (7 CFR part 762) Guaranteed Farm Loan Program.

OMB Number: 0560-0155.

Expiration Date of Approval: 10/31/2010.

Type of Request: Extension with revision of a currently approved information collection.

Abstract: This information collection is needed to effectively administer the FSA guaranteed farm loan programs. The information is collected by the FSA loan official in consultation with participating commercial lenders. The objective of the guaranteed loan program is to provide credit to applicants who are unable to obtain credit from lending institutions without a guarantee. The reporting requirements imposed on the public by the regulations at 7 CFR part 762 are necessary to administer the guaranteed loan program in accordance with statutory requirements of the Consolidated Farm and Rural Development Act and are consistent with commonly performed lending practices. Collection of information after loans are made is necessary to protect the Government's financial interest.

Type of Respondents: Individuals or households, business or other for-profit and farms.

Estimated Average Time to Respond: .733 hours.

Estimated Number of Respondents: 16,985.

Estimated Number of Reports Filed per Respondent: 13.5.

Estimated Total Annual Number of Responses: 229,443.

Estimated Total Annual Burden on Respondents: 168,387 hours.

We are requesting comments on all aspects of this information collection and to help us to:

(1) Evaluate whether the collection of information is necessary for the proper performance of the functions of the agency, including whether the information will have practical utility;

(2) Evaluate the accuracy of the agency's estimate of burden including the validity of the methodology and assumptions used;

(3) Enhance the quality, utility and clarity of the information to be collected;

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Signed at Washington, DC, on May 3, 2010.
Jonathan W. Coppess,
Administrator, Farm Service Agency.

[FR Doc. 2010-10919 Filed 5-7-10; 8:45 am]

BILLING CODE 3410-05-P